DEPARTMENT OF TRANSPORTATION

Federal Aviation Administration

14 CFR Part 39

[Docket No. 2002-NM-267-AD]

RIN 2120-AA64

Airworthiness Directives; Dornier Model 328-300 Series Airplanes

AGENCY: Federal Aviation Administration, DOT.

ACTION: Notice of proposed rulemaking (NPRM).

SUMMARY: This document proposes the adoption of a new airworthiness directive (AD) that is applicable to certain Dornier Model 328-300 series airplanes. This proposal would require replacement of 3-switch and 4-switch overhead fire extinguisher control panels with new, improved panels. This action is necessary to prevent the inadvertent release of the fire switch pushbutton on the overhead fire extinguisher control panel with the switch guard closed, which could result in an uncommanded engine shutdown. This action is intended to address the identified unsafe condition.

DATES: Comments must be received by December 17, 2003.

ADDRESSES: Submit comments in triplicate to the Federal Aviation Administration (FAA), Transport Airplane Directorate, ANM-114, Attention: Rules Docket No. 2002 NM-267-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-267-AD” in the subject line and need not be submitted in triplicate. Comments sent via the Internet as attached electronic files must be formatted in Microsoft Word 97 or 2000 or ASCII text.

The service information referenced in the proposed rule may be obtained from AvCraft Aerospace GmbH, P.O. Box 1103, D-82230 Wessling, Germany. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-267-AD.” The postcard will be date stamped and returned to the commenter.

Availability of NPRMs

Any person may obtain a copy of this NPRM by submitting a request to the FAA, Transport Airplane Directorate, ANM-114, Attention: Rules Docket No. 2002-NM-267-AD, 1601 Lind Avenue, SW., Renton, Washington 98055-4056.

Discussion

The Luftfahrt-Bundesamt (LBA), which is the airworthiness authority for Germany, notified the FAA that an unsafe condition may exist on certain Dornier Model 328-300 series airplanes. The LBA advises that the airplane manufacturer identified a design problem with the switch guard for the fire switch pushbutton on the overhead fire extinguisher control panel. The procedure that uses the switch guard to reset the fire switch pushbutton does not force the pushbutton into the locked position, and the spring force of the pushbutton works against the switch guard. A slight lifting of the switch guard during flight, due to g-forces, could cause the switch guard to open and inadvertently release the pushbutton, and activate the engine shutdown function. Such conditions could result in an uncommanded engine shutdown.

Explanation of Relevant Service Information

Dornier has issued Service Bulletins SB-328J-26-156 and SB-328J-26-161, both dated February 26, 2002, which describe procedures for replacing the 3-switch and 4-switch overhead fire extinguisher control panels with new, improved control panels; and operational testing of the newly installed control panels. The procedures described in the two service bulletins are similar. The serial numbers listed in the effectivity of each service bulletin are different because SB-328J-26-161 addresses airplanes with a 3-switch panel and SB-328J-26-156 addresses airplanes with a 4-switch panel. Accomplishment of the actions specified in the service bulletins is intended to adequately address the identified unsafe condition. Dornier Service Bulletin SB-328J-26-156 refers to Smiths Aerospace Service Bulletin 371-01, dated February 20, 2002, as an additional source of service information for accomplishment of the actions. Dornier Service Bulletin SB-328J-26-161 refers to Smiths Aerospace Service Bulletin 370-01, dated February 20, 2002, as an additional source of service information for accomplishment of the actions. The LBA classified the Dornier service bulletins as mandatory and issued German airworthiness directives 2002-251, dated September 5, 2002; and 2002-335, dated October 17, 2002, to ensure the continued airworthiness of these airplanes in Germany.

FAA's Conclusions

This airplane model is manufactured in Germany and is type certificated for operation in the United States under the provisions of section 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously.

Cost Impact

The FAA estimates that 19 airplanes of U.S. registry would be affected by this proposed AD, that it would take approximately 1 work hour per airplane to accomplish the proposed replacement of the overhead fire extinguisher control panel, and that the average labor rate is $65 per work hour. Required parts would be provided by the parts manufacturer at no cost to operators. Based on these figures, the cost impact of the proposed AD on U.S. operators is estimated to be $1,235, or $65 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Fairchild Dornier GmbH (Formerly Dornier Luftfahrt GmbH): Docket 2002-NM-267-AD.

Applicability: Model 328-300 series airplanes as listed in Dornier Service Bulletins SB-328J-26-156 and SB-328J-26-161, both dated February 26, 2002; certificated in any category.

Compliance: Required as indicated, unless accomplished previously.

To prevent the inadvertent release of the fire switch pushbutton on the overhead fire extinguisher control panel with the switch guard closed, which could result in an uncommanded engine shutdown, accomplish the following:

Replacement of Overhead Fire Extinguisher Control Panel and Follow-on Actions

(a) Within 16 months after the effective date of this AD: Replace the overhead fire extinguisher control panels with new, improved fire extinguisher control panels, by accomplishing all of the actions specified in Paragraphs 2.A, 2.B(1) through (4) inclusive, and 2.C, of the Accomplishment Instructions of Dornier Service Bulletin SB-328J-26-156 or SB-328J-26-161, both dated February 26, 2002; as applicable.

Note 1: Dornier Service Bulletins SB-328J-26-156 and SB-328J-26-161 refer to Smiths Aerospace Service Bulletins 371-01 and 370-01, respectively, both dated February 20, 2002, as additional sources of service information for accomplishment of the required actions.

Parts Installation

(b) As of the effective date of this AD, no person may install fire extinguisher control panels manufactured by Smiths Aerospace having part numbers 715740-1 or 715355-1 on any airplane.

Alternative Methods of Compliance

(c) In accordance with 14 CFR 39.19, the Manager, International Branch, ANM-116, FAA, Transport Airplane Directorate, is authorized to approve alternative methods of compliance for this AD.

Note 2: The subject of this AD is addressed in German airworthiness directives 2002-251, dated September 5, 2002; and 2002-335, dated October 17, 2002.

Issued in Renton, Washington, on November 10, 2003.
Kalene C. Yanamura,
Acting Manager, Transport Airplane Directorate, Aircraft Certification Service.

[FR Doc. 03-28610 Filed 11-14-03; 8:45 am]

BILLING CODE 4910-13-P